DEPARTMENT OF JUSTICE

Antitrust Division

Notice Pursuant to the National Cooperative Research and Production Act of 1993—The Institute of Electrical and Electronics Engineers, Inc.

Notice is hereby given that, on January 11, 2021, pursuant to Section 6(a) of the National Cooperative Research and Production Act of 1993, 15 U.S.C. 4301 et seq. (“the Act”), The Institute of Electrical and Electronics Engineers, Inc. (“IEEE”) has filed written notifications simultaneously with the Attorney General and the Federal Trade Commission disclosing additions or changes to its standards development activities. The notifications were filed for the purpose of extending the Act's provisions limiting the recovery of antitrust plaintiffs to actual damages under specified circumstances. Specifically, 25 new standards have been initiated and 21 existing standards are being revised. More detail regarding these changes can be found at: https://standards.ieee.org/about/sasb/sba/dec2020.html.

The following pre-standards activities associated with IEEE Industry Connections (IC) Activities were launched or renewed. In addition, the following IEEE SA Registries associated with the IEEE Registration Authority (RA) were established to promulgate IEEE standards. More detail regarding these can be found at: https://standards.ieee.org/about/bog/smdca/december2020.html.

On September 17, 2004, IEEE filed its original notification pursuant to Section 6(a) of the Act. The Department of Justice published a notice in the Federal Register pursuant to Section 6(b) of the Act on November 3, 2004 (69 FR 64105).

The last notification was filed with the Department on October 22, 2020. A notice was published in the Federal Register pursuant to Section 6(b) of the Act on November 24, 2020 (85 FR 75035).

Suzanne Morris,
Chief, Premerger and Division Statistics, Antitrust Division.

[FR Doc. 2021-02930 Filed 2-11-21; 8:45 am]

BILLING CODE P